NATIONAL SCIENCE FOUNDATION

Notice of Permits Issued Under the Antarctic Conservation Act of 1978

AGENCY: National Science Foundation.

ACTION: Notice of permits issued under the Antarctic Conservation Act of 1978, Public Law 95-541.

SUMMARY: The National Science Foundation (NSF) is required to publish notice of permit modification issued under the Antarctic Conservation Act of 1978. This is the required notice.

FOR FURTHER INFORMATION CONTACT: Nadene G. Kennedy, Permit Office, Office of Polar Programs, Rm. 755, National Science Foundation, 4201 Wilson Boulevard, Arlington, VA 22230.

SUPPLEMENTARY INFORMATION: On September 19, 2005, the National Science Foundation published a notice in the Federal Register of a Waste Management permit modification request received. A modification to a Waste Management permit was issued on October 24, 2005, to the following applicant: Rennie S. Holt—Permit No. 2002 WM-002 Mod. 1.

Nadene G. Kennedy,
Permit Officer.

[FR Doc. 05-21566 Filed 10-27-05; 8:45 am]

BILLING CODE 7555-01-M